Proclamation 9969 of November 27, 2019

National Impaired Driving Prevention Month, 2019

By the President of the United States of America

A Proclamation

Every day, lives are shattered and lost on our Nation's roadways as a result of alcohol, drugs, and distracted driving. The statistics are alarming: In 2018, impaired driving took more than 10,000 lives in the United States—almost 30 of our fellow Americans each day. During National Impaired Driving Prevention Month, we reaffirm our commitment to preventing tragedies from impaired driving by making the responsible decision to drive sober. We also remember the victims of impaired driving, pray for the grieving families of those whose lives have been taken, and honor the law enforcement professionals who work to keep our roads safe.

Irresponsible and impulsive choices that interfere with the ability to drive can irrevocably destroy hopes, dreams, and families. The influence of alcohol, illicit drugs, and some over-the-counter and prescription medications diminishes judgment, negatively impacts motor coordination, and decreases reaction time necessary to safely operate a motor vehicle. Innocent drivers, passengers, cyclists, and pedestrians are endangered when impaired individuals get behind the wheel. We can and must prevent this senseless loss of life and property.

My Administration will continue to raise awareness nationwide of the importance of personal responsibility and the dangers of driving while impaired by alcohol or other drugs, including marijuana, opioids, and certain medications. Since the first day of my Administration, addressing substance use disorder and helping the millions of Americans affected by addiction find pathways to recovery have been high priorities. We support health professionals treating Americans struggling with substance use disorder and faith-based and non-profit organizations that address this critical issue through outreach and support of individuals seeking recovery. By eliminating unnecessary and burdensome regulations, we are supporting the creation of innovative technologies that help to reduce impaired driving on our roads, such as ride-sharing services and Advanced Vehicle Technology. Additionally, we are improving data collection and toxicology practices and continuing to provide vital resources to our Nation's law enforcement officers and public safety professionals, bolstering their efforts to reduce the number of crashes, injuries, and fatalities caused by impaired driving.

Our Nation has lost too many lives to substance use, yet every day impaired drivers recklessly put others and themselves at risk. Driving sober is non-negotiable. This holiday season, and every day, I urge all Americans to choose wisely, act responsibly, drive sober, and implore friends and loved ones not to get behind the wheel while impaired. We must all commit to confronting this careless behavior, which inflicts unnecessary suffering and senseless loss, stealing the lives of our fellow Americans.

NOW, THEREFORE, I, DONALD J. TRUMP, President of the United States of America, by virtue of the authority vested in me by the Constitution and the laws of the United States, do hereby proclaim December 2019 as National Impaired Driving Prevention Month. I urge all Americans to make responsible decisions and take appropriate measures to prevent impaired driving.

IN WITNESS WHEREOF, I have hereunto set my hand this twenty-seventh day of November, in the year of our Lord two thousand nineteen, and of the Independence of the United States of America the two hundred and forty-fourth.

[FR Doc. 2019-26284

Filed 12-3-19; 8:45 am]

Billing code 3295-F0-P